DEPARTMENT OF TRANSPORTATION

Federal Aviation Administration

Public Notice for Waiver of Aeronautical Land-Use Assurance; Mansfield Lahm International Airport; Mansfield, OH

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of the sale of vacant, much of which is farmed and owned by the City of Mansfield. The Hummel Parcel #35A is approximately 89.86 acres. There are no impacts to the airport by allowing the airport to dispose of the property. The proposed land for release is vacant, not required for future development, safety, or compatible land use. The intended land use is infrastructure development, including roads, utilities, and industrial development. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before September 24, 2008.

FOR FURTHER INFORMATION CONTACT: Stephanie Swann, Program Manager, Detroit Airports District Office, 11677 South Wayne Road, Suite 107, Romulus, Michigan 48174. Telephone Number: (734)-229-2945/FAX Number: (734)-229-2950. Documents reflecting this FAA action may be reviewed at this same location or at Mansfield Lahm International Airport, Mansfield, Ohio.

SUPPLEMENTARY INFORMATION: Following is a legal description of the property located in Madison Township, County of Richland, State of Ohio, and described as follows: (Legal Description of Property).

Being a part of the northeast Quarter of Section 5, Township 21, Range 18 of Madison Township, and more fully described as follows:

Beginning at the intersection of the east line of the Northeast Quarter of Section 5 and the centerline of Nail Road (which is the south line of the Northeast Quarter of Section 5); thence west along and with the centerline of Nail Road a distance of 1724 ft. to a point in the centerline of Bowman Street Road (CH 215); thence north 28 degrees 30 minutes west along and with the centerline of Bowman Street Road a distance of 1254.5 ft.; thence south 80 degrees 00 minutes east a distance of 389 ft.; thence north 2 degrees 30 minutes east a distance of 1884 ft. to a point in the centerline of Crall Road (CH237); thence south 89 degrees 48 minutes east along and with the centerline of Crall Road a distance of 1854 ft.; thence south 0 degrees 8 minutes east a distance of 2900 ft. to the place of beginning and contains 129.80 acres more or less and subject to all legal highways.

Also the following described premises:

Being a part of the northwest Quarter of Section 4, Township 21, Range 18 of Madison Township, and more particularly described as follows:

Beginning at the intersection of the west line of the Northwest Quarter of Section 4 and the centerline of Nail Road (which is the south line of the northwest Quarter of Section 4); thence east along and with the centerline of Nail Road a distance of 720 feet; thence north 1 degree 16 minutes east a distance of 2344 feet; thence north 88 degrees 44 minutes west a distance of 391 feet; thence south 2 degrees 43 minutes west a distance of 383 feet; thence south 89 degrees 40 minutes west a distance of 372.7 feet; thence south 0 degrees 8 minutes east a distance of 1974 feet to the place of beginning and contains 37.31 acres more or less and subject to all legal highways. Now located in the City of Mansfield.

Issued in Romulus, Michigan on July 28, 2008.
Matthew J. Thys,
Manager, Detroit Airports District Office, FAA, Great Lakes Region.

[FR Doc. E8-19565 Filed 8-22-08; 8:45 am]

BILLING CODE 4910-13-M